DEPARTMENT OF COMMERCE

International Trade Administration

For the Regents of the University of Idaho; Notice of Decision on Applicationfor Duty-Free Entry of Scientific Instruments

This is a decision pursuant to section 6(c) of the Educational, Scientific, and Cultural Materials Importation Act of 1966 (Pub. L. 89-651, as amended by Pub. L. 106-36; 80 Stat. 897; 15 CFR part 301).OnJanuary 19, 2024,the Department of Commerce published a notice in the Federal Register requesting public comment on whether instruments of equivalent scientific value, for the purposes for which the instruments identified in the docket(s) below are intended to be used, are being manufactured in the United States. See Application(s) for Duty-Free Entry of Scientific Instruments, 89 FR3636, January 19, 2024 (Notice).We received no public comments.

Docket Number: 23-017. Applicant: For the Regents of the University of Idaho, 875 Perimeter Drive, MS 2006, Moscow, ID 83844-2006. Instrument: EcoUnit(s).

Manufacturer: Regineering GmbH, Germany. Intended Use: The instrument is intended to be used to study the 24 EcoUnits composing the Deep Soil Ecotron (https://deepsoilecotron.org/) will be used specifically to study deep soils (i.e., soils greater than 30 cm in depth), as well as the associated surface soils (i.e., soils 0-30cm in depth) and the above ground plant community. The techniques employed will include experimental design that enables researchers through the use of these EcoUnits to precisely manipulate and control a suite of environmental variables controlled by EcoUnits. Additionally, researchers will employ state of the art sensors to monitor soil temperature, moisture, and gas fluxes, as well as plant root growth an morphology, and soil microbial communities via next-generation sequencing.

Dated: February 28, 2024.
Gregory W. Campbell,
Director, Subsidies and Economic Analysts, Enforcement and Compliance.

[FR Doc. 2024-04574 Filed 3-4-24; 8:45 am]

BILLING CODE 3510-DS-P